DEPARTMENT OF ENERGY

Bonneville Power Administration

Grande Ronde and Imnaha Spring Chinook Project

AGENCY: Bonneville Power Administration (BPA), Department of Energy (DOE).

ACTION: Notice of floodplain and wetlands involvement.

SUMMARY: This notice announces BPA's proposal to construct new facilities and modify existing facilities for a conservation, integrated recovery production program for Imnaha, Lostine, and Upper Grande Ronde Rivers and Catherine Creek spring chinook salmon. The new and existing facilities would be and are located in Wallowa County, Oregon. In accordance with DOE regulations for compliance with floodplain and wetlands environmental review requirements, BPA will prepare a floodplain and wetlands assessment and will perform this proposed action in a manner so as to avoid or minimize potential harm to or within the affected floodplain and wetlands. The assessment will be included in the Environmental Assessment (EA) being prepared for the proposed project in accordance with the requirements of the National Environmental Policy Act (NEPA). A floodplain statement of findings will be included in any finding of no significant impact that may be issued following the completion of the EA.

DATE: Comments are due to the address below no later than December 20, 2000.

ADDRESSES: To comment, phone toll-free 1-800-622-4519, send an e-mail to the BPA Internet address comment@bpa.gov; or mail comments to Communications, Bonneville Power Administration—KC-7, P.O. Box 12999, Portland, Oregon 97212.

FOR FURTHER INFORMATION, CONTACT: Patricia R. Smith, KEC-4, Bonneville Power Administration, P.O. Box 3621, Portland, Oregon, 97208-3621; phone number 503-230-7349; fax number 503-230-5699; e-mail address prsmith@bpa.gov.

SUPPLEMENTARY INFORMATION: The project would include the following types of activities that may involve work in wetlands and floodplains: construction of various buildings, raceways, rearing ponds, effluent facilities, and pipelines. Wetlands and floodplains that may be affected by the project are in Wallowa County, Oregon; Township 1 South, Range 48 East, Section 10; Township 2 South, Range 43 East, Section 3; and Township 3 South, Range 48 East, Section 22.

Maps and further information are available from BPA at the address above.

Issued in Portland, Oregon, on November 22, 2000.
Thomas C. McKinney,
NEPA Compliance Officer.

[FR Doc. 00-30928 Filed 12-04-00; 8:45 am]

BILLING CODE 6450-01-P